FEDERAL COMMUNICATIONS COMMISSION

47 CFR Part 76

[MB Docket No. 16-126; DA 16-407]

Petition for Declaratory Ruling Filed by National Cable & Telecommunications Association and American Cable Association

AGENCY: Federal Communications Commission.

ACTION: Petition for declaratory ruling; request for comments.

SUMMARY: This document seeks comment on a petition for declaratory ruling filed by the National Cable & Telecommunications Association and American Cable Association seeking a declaratory ruling clarifying the “written information” requirement of section 76.1602(b) of the Commission's rules. Specifically, NCTA and ACA “seek a ruling that electronic dissemination by email to subscribers for whom a cable operator has a confirmed email address, by the provision of appropriately-noticed links to Web sites, or by other electronic measures reasonably calculated to reach individual customers, satisfies the requirement if the information is also available in print upon customer request.”

DATES: Comments are due on or before May 26, 2016; reply comments are due on or before June 10, 2016.

ADDRESSES: You may submit comments, identified by MB Docket No. 16-126, by any of the following methods:

• Electronic Filers: Comments may be filed electronically using the Internet by accessing the ECFS: http://apps.fcc.gov/ecfs/.

• Paper Filers: Parties who choose to file by paper must file an original and one copy of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington, DC 20554.

• People with Disabilities: To request materials in accessible formats for people with disabilities (braille, large print, electronic files, audio format), send an email to fcc504@fcc.gov or call the Consumer & Governmental Affairs Bureau at 202-418-0530 (voice), 202-418-0432 (tty).

FOR FURTHER INFORMATION CONTACT: For additional information on this proceeding, contact Katie Costello of the Policy Division, Media Bureau at (202) 418-2233 or Katie.Costello@fcc.gov.

SUPPLEMENTARY INFORMATION: This is a summary of the Public Notice dated April 14, 2016, DA 16-407, MediaBureau Seeks Comment on Petition for Declaratory Ruling filed by National Cable & Telecommunications Association and American Cable Association, MB Docket No. 16-126. The full text of the Public Notice is available for public inspection and copying during regular business hours in the FCC Reference Center, Federal Communications Commission, 445 12th Street SW., Room CY-A257, Washington, DC 20554. This document will also be available via ECFS at http://apps.fcc.gov/ecfs/. Documents will be available electronically in ASCII, Microsoft Word, and/or Adobe Acrobat. The complete text may be purchased from the Commission's copy contractor, 445 12th Street SW., Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Synopsis

On March 7, 2016, National Cable & Telecommunications Association (“NCTA”) and the American Cable Association (“ACA”) jointly filed a Petition for Declaratory Ruling (“Petition”) in which it seeks clarification of the “written information” requirement of Section 76.1602(b) of the Commission's rules. Specifically, NCTA and ACA “seek a ruling that electronic dissemination by email to subscribers for whom a cable operator has a confirmed email address, by the provision of appropriately-noticed links to Web sites, or by other electronic measures reasonably calculated to reach individual customers, satisfies the requirement if the information is also available in print upon customer request.” The Commission issue this Public Notice pursuant to section 1.2 of the Commission's rules to seek comment on NCTA and ACA's Petition. The Petition is available electronically through the Commission's ECFS under MB Docket No. 16-126, which may be accessed on the Commission's Internet Web site at http://apps.fcc.gov/ecfs/. All filings concerning the matters referenced in this Public Notice should refer to the above-referenced docket number. Comments may be filed by May 26, 2016. Reply comments may be filed by June 10, 2016. The proceeding this Notice initiates shall be treated as a “permit-but-disclose” proceeding in accordance with the Commission's ex parte rules, Section 1.1200 through 1.1216 of the Commission's rules. Participants in this proceeding should familiarize themselves with the Commission's ex parte rules. Written ex parte presentations and memoranda summarizing oral ex parte presentations, and all attachments thereto, must be filed through the electronic comment filing system available for that proceeding, and must be filed in their native format (e.g., .doc, .xml, .ppt, searchable .pdf).

Federal Communications Commission.
Thomas Horan,
Chief of Staff, Media Bureau.

[FR Doc. 2016-09504 Filed 4-22-16; 8:45 am]

BILLING CODE 6712-01-P